DEPARTMENT OF JUSTICE

Federal Bureau of Investigation

[OMB Number 1110-0043]

Agency Information Collection Activities; Proposed eCollection of eComments Requested; Revision of a Currently Approved Collection

AGENCY: Department of Justice, Federal Bureau of Investigation, Criminal Justice Information Services Division.

ACTION: 60-Day notice.

SUMMARY: The Department of Justice, Federal Bureau of Investigation, Criminal Justice Information Services Division, is submitting the following information collection request to the Office of Management and Budget (OMB) for review and approval in accordance with the Paperwork Reduction Act of 1995.

DATES: The Department of Justice encourages public comment and will accept input until September 20, 2022.

FOR FURTHER INFORMATION CONTACT: If you have additional comments especially on the estimated public burden or associated response time, suggestions, or need a copy of the proposed information collection instrument with instructions or additional information, please contact Gerry Lynn Brovey, Supervisory Information Liaison Specialist, FBI, CJIS, Resources Management Section, Administrative Unit, Module C-2, 1000 Custer Hollow Road, Clarksburg, West Virginia, 26306; phone: 304-625-4320 or email glbrovey@fbi.gov.

SUPPLEMENTARY INFORMATION: Written comments and suggestions from the public and affected agencies concerning the proposed collection of information are encouraged. Your comments should address one or more of the following four points:

➢ Evaluate whether the proposed collection of information is necessary for the proper performance of the functions of the Federal Bureau of Investigation, Criminal Justice Information Division, including whether the information will have practical utility;

➢ Evaluate the accuracy of the agency's estimate of the burden of the proposed collection of information, including the validity of the methodology and assumptions used;

➢ Evaluate whether and if so how the quality, utility, and clarity of the information to be collected can be enhanced; and

➢ Minimize the burden of the collection of information on those who are to respond, including through the use of appropriate automated, electronic, mechanical, or other technological collection techniques or other forms of information technology, e.g., permitting electronic submission of responses.

Overview of This Information Collection

1. Type of Information Collection: Revision of a currently approved collection.

2. The Title of the Form/Collection: Voluntary Appeal File (VAF) Application Form.

3. The agency form number, if any, and the applicable component of the Department sponsoring the collection: 1110-0043 The applicable component within the Department of Justice is the Federal Bureau of Investigation, Criminal Justice Information Services Division.

4. Affected public who will be asked or required to respond, as well as a brief abstract: Primary: Potential firearm purchasers. If a potential purchaser is delayed or denied a firearm and successfully appeals the decision, the NICS Section cannot retain a record of the overturned appeal or the supporting documentation. If the record is not able to be updated or the fingerprints are non-identical to a disqualifying record used in the evaluation, the purchaser continues to be delayed or denied, and if that individual appeals the decision, the documentation/information (e.g., fingerprint cards, court records, pardons, etc.) must be resubmitted for every subsequent purchase. The VAF was established per 28 CFR, Part 25.10(g), for this reason. By this process, applicants can voluntarily request the NICS Section maintain information about themselves in the VAF to prevent future extended delays or denials of a firearm transfer.

5. An estimate of the total number of respondents and the amount of time estimated for an average respondent to respond: It is estimated the time it takes to read, complete, and upload documents is 30 minutes. Travel time to the fingerprinting facility and post office is not factored in the time estimate. The BSS Section estimates 3,737 respondents yearly.

6. An estimate of the total public burden (in hours) associated with the collection: With 3,737 applicants responding, the formula for applicant burden hours would be as follows: (3,737 respondents × .5 hours) = 1,868.5 hours.

If additional information is required contact: Robert Houser, Assistant Director, United States Department of Justice, Justice Management Division, Policy and Planning Staff, Two Constitution Square, 145 N Street NE, 3E.405A, Washington, DC 20530.

Dated: July 19, 2022.
Robert Houser,
Assistant Director, Policy and Planning Staff, U.S. Department of Justice.

[FR Doc. 2022-15751 Filed 7-21-22; 8:45 am]

BILLING CODE 4410-02-P